FEDERAL COMMUNICATIONS COMMISSION

[IB Docket No. 16-185; DA 20-749; FRS 17013]

First Meeting of the World Radiocommunication Conference Advisory Committee

AGENCY: Federal Communications Commission.

ACTION: Notice.

SUMMARY: In accordance with the Federal Advisory Committee Act, this notice advises interested persons that the first meeting of the World Radiocommunication Conference Advisory Committee (WAC) will be held on August 25, 2020. Due to exceptional circumstances, the Advisory Committee meeting will be convened as a virtual meeting with remote participation only. This first meeting will focus on WAC processes, among others, the final charter, committee structure including the appointed chairmen and vice-chairmen, and the working method guidance.

DATES: August 25, 2020; 11:00 a.m. EDT

ADDRESSES: www.fcc.gov/live

FOR FURTHER INFORMATION CONTACT: Dante Ibarra, Designated Federal Official, World Radiocommunication Conference Advisory Committee, FCC International Bureau, Global Strategy and Negotiation Division, at Dante.Ibarra@fcc.gov, (202) 418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the first meeting of the Advisory Committee. Additional information regarding the Advisory Committee is available on the Advisory Committee's website, www.fcc.gov/wrc-23. The virtual meeting is open to the public. The meeting will be broadcast live with open captioning over the internet from the FCC Live web page at www.fcc.gov/live. There will be audience participation available; send live questions to livequestions@fcc.gov only during this meeting.

The proposed agenda for the first meeting is as follows:

Agenda

First Meeting of the World Radiocommunication Conference Advisory Committee

Federal Communications Commission

August 25, 2020; 11:00 a.m. EDT

1. Opening Remarks

2. Approval of Agenda

3. Chartering of the Committee/Structure and Chairs/Working Method Guidance/IWG Processes

4. FCC Presentation on Federal Advisory Committee Rules

5. Update on NTIA's WRC-23 Preparatory Efforts

6. Future Meetings

7. Other Business

Federal Communications Commission.
Troy Tanner,
Deputy Chief, International Bureau.

[FR Doc. 2020-18167 Filed 8-18-20; 8:45 am]

BILLING CODE 6712-01-P